DEPARTMENT OF AGRICULTURE

Animal and Plant Health Inspection Service

7 CFR Part 301

[Docket No. APHIS-2010-0031]

Pine Shoot Beetle; Addition of Quarantined Areas and Regulated Articles

AGENCY: Animal and Plant Health Inspection Service, USDA.

ACTION: Affirmation of interim rule as final rule.

SUMMARY: We are adopting as a final rule, without change, an interim rule that amended the pine shoot beetle regulations by adding areas in the States of Illinois, Maryland, Missouri, New York, and Virginia and the States of Indiana and New Jersey in their entirety to the list of quarantined areas. The interim rule also updated the list of regulated articles. The interim rule was necessary to prevent the spread of pine shoot beetle, a pest of pine trees, into noninfested areas of the United States.

DATES: Effective on October 10, 2014, we are adopting as a final rule the interim rule published at 79 FR 21595-21597 on April 17, 2014.

FOR FURTHER INFORMATION CONTACT: Ms. Karen Maguylo, National Policy Manager, PPQ, APHIS, 4700 River Road Unit 26, Riverdale, MD 20737-1231; (301) 851-3128.

SUPPLEMENTARY INFORMATION:

Background

The regulations in “Subpart—Pine Shoot Beetle,” (7 CFR 301.50 through 301.50-10, referred to below as the regulations) restrict the interstate movement of certain regulated articles from quarantined areas in order to prevent the spread of pine shoot beetle (PSB) into noninfested areas of the United States.

In an interim rule ¹ effective and published in the Federal Register on April 17, 2014 (79 FR 21595-21597, Docket No. APHIS-2010-0031), we amended the regulations by adding the following counties to the area quarantined for PSB: Cumberland, Effingham, Fayette, Knox, Mercer, Rock Island, and Warren Counties, IL; Baltimore, Carroll, Harford, and Howard Counties, MD; Adair, Clark, Lewis, Macon, and Marion Counties, MO; Dutchess, Putnam, and Westchester Counties, NY; and Loudon County, VA. We also added the States of Indiana and New Jersey in their entirety to the list of quarantined areas. In addition, to clarify that firewood is a regulated article, we updated the list of regulated articles to include firewood.

¹ To view the interim rule, its supporting economic analysis, and the comment we received, go to http://www.regulations.gov/#!docketDetail;D=APHIS-2010-0031.

We solicited public comments for 60 days, ending June 16, 2014. We received one comment by that date from a private citizen, who supported the rule. Therefore, for the reasons given in the interim rule and in this document, we are adopting the interim rule as a final rule without change.

This action also affirms the information contained in the interim rule concerning Executive Orders 12866, 12372, and 12988, and the Paperwork Reduction Act.

Further, for this action, the Office of Management and Budget has waived its review under Executive Order 12866.

Regulatory Flexibility Act

This rule affirms an interim rule that amended the regulations by adding areas to the list of quarantined areas and regulated articles for PSB. We took that action based on the detection of PSB in areas not previously infested. As a result of the interim rule, there are additional restrictions on the interstate movement of regulated articles to prevent the spread of PSB to noninfested areas.

The following analysis addresses the economic effects of the interim rule on small entities, as required by the Regulatory Flexibility Act.

In accordance with 5 U.S.C. 603, we have performed a final regulatory flexibility analysis, which is summarized below, regarding the economic effects of this rule on small entities. The full analysis may be viewed on the Regulations.gov Web site (see footnote 1 above for a link to Regulations.gov) or obtained from the person listed under FOR FURTHER INFORMATION CONTACT.

Tip feeding by PSB causes various malformations that reduce the value of the tree. This kind of damage is especially severe in Christmas tree plantations, where tree form is the primary consideration. PSB generally infests weakened, stressed, or dying trees, but will also attack and kill apparently healthy trees.

In 2007, there were at least 137 Christmas tree farms and 288 nurseries and greenhouses in the affected counties that may be impacted by this rule. These figures understate the number of potentially affected entities because the number of these businesses was not disclosed for several of the counties. Moreover, data on the number of entities other than nurseries and Christmas tree farms that may be affected, such as sawmills and logging operations, are not available.

Based on our review of available information, APHIS does not expect the interim rule to have a significant economic impact on small entities. In the absence of significant economic impacts, we have not identified alternatives that would minimize such impacts.

List of Subjects in 7 CFR Part 301

Agricultural commodities, Plant diseases and pests, Quarantine, Reporting and recordkeeping requirements, Transportation.

PART 301—DOMESTIC QUARANTINE NOTICES

Accordingly, we are adopting as a final rule, without change, the interim rule that amended 7 CFR part 301 and that was published at 79 FR 21595-21597 on April 17, 2014.

Done in Washington, DC, this 6th day of October 2014.
Kevin Shea,
Administrator, Animal and Plant Health Inspection Service.

[FR Doc. 2014-24245 Filed 10-9-14; 8:45 am]

BILLING CODE 3410-34-P